DEPARTMENT OF TRANSPORTATION

Research and Special Programs Administration

49 CFR Parts 107, 190, 191, 192, 193, 195, 198 and 199

RIN 2137-AD43

Revisions; Definition of Administrator

AGENCY: Research and Special Programs Administration (RSPA), DOT.

ACTION: Final rule.

SUMMARY: In this final rule, RSPA modifies or adds the definition of Administrator in several sections of the Code of Federal Regulations. RSPA has determined that there is a need to change or add the definition of Administrator for clarification purposes and for consistency between the RSPA regulations.

EFFECTIVE DATE: This rule is effective March 12, 2003.

FOR FURTHER INFORMATION CONTACT: Astrid Lopez-Goldberg, Attorney, Research and Special Programs Administration, Office of Chief Counsel, Room 8407, 400 Seventh Street, SW., Washington, DC 20590. Telephone: (202)366-4400, Fax: (202)366-7041, e-mail: astrid.lopez-goldberg@rspa.dot.gov.

SUPPLEMENTARY INFORMATION: After a review of the RSPA regulations, RSPA has determined that there is a need to change or add the definition of Administrator for clarification purposes and for consistency between the RSPA regulations.

Regulatory Analyses and Notices

A. Executive Order 12866 and DOT Regulatory Policies and Procedures

This final rule is not considered a significant regulatory action under section 3(f) of Executive Order 12866 and, therefore, was not subject to review by the Office of Management and Budget. This rule is not significant according to the Regulatory Policies and Procedures of the Department of Transportation (44 FR 11034). Because of the minimal economic impact of this rule, preparation of a regulatory impact analysis or a regulatory evaluation is not warranted.

B. Executive Order 12612

This regulation would not have substantial direct effect on states, on the relationship between the Federal Government and the states, or on the distribution of power and responsibilities among the various levels of Government. Therefore, in accordance with Executive Order 12612 (52 FR 41685; October 30, 1987), RSPA has determined that this regulation would not have sufficient federalism implications to warrant preparation of a federalism assessment.

C. Executive Order 13084

Because this regulation would not significantly or uniquely affect the communities of the Indian tribal governments, the funding and consultation requirements of this Executive Order do not apply.

D. Regulatory Flexibility Act

RSPA certifies, under section 605 of the Regulatory Flexibility Act (5 U.S.C.), that this rule will not have a significant economic impact on a substantial number of small entities.

E. Paperwork Reduction Act

There are no new information collection requirements in this final rule.

F. Unfunded Mandates Reform Act of 1995

This rule does not impose unfunded mandates under the Unfunded Mandates Reform Act of 1995. It does not result in costs of $100 million or more to either State, local, or tribal governments, in the aggregate, or to the private sector, and is the least burdensome alternative that achieves the objective of the rule.

G. Impact on Business Processes and Computer Systems (Year 2000)

Many computers that use two digits to keep track of dates may, on January 1, 2000, recognize “double zero” not as 2000 but as 1900. The Year 2000 problem could cause computers to stop running or start generating erroneous data. The Year 2000 problem poses a threat to the global economy in which Americans live and work. With the help of the President's Council on Year 2000 conversion, federal agencies are reaching out to increase awareness of the problem and to offer support. We do not want to impose new requirements that would mandate business process changes when the resources necessary to implement those requirements would otherwise be applied to the Year 2000 problem. This final rule does not impose business process changes or require modification to computer systems. Because the final rule does not affect organizations' ability to respond to the Year 2000 problem, we do not intend to delay the effectiveness of the requirements of this final rule.

H. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

I. National Environmental Policy Act

For purposes of the National Environmental Policy Act (42 U.S.C. 4321 et seq.) this action will not significantly affect the quality of the human environment.

List of Subjects in 49 CFR Parts 107, 190, 191, 192, 193, 195, 198 and 199

Administrative practice and procedure, Pipeline safety.

For the reasons stated in the preamble, RSPA amends 49 CFR parts 107, 190, 191, 192, 193, 195, 198 and 199 as follows:

PART 107—HAZARDOUS MATERIALS PROGRAM PROCEDURES

1. The authority citation for part 107 continues to read as follows:

Authority: 49 U.S.C. 5101-5127, 44701; Sec. 212-213, Pub. L. 104-121, 110 Stat. 857; and 49 CFR 1.45, 1.53.

2. In section 107.1, revise the definition of Administrator to read as follows:

§ 107.1 Definitions.

* * * * *

Administrator means the Administrator, Research and Special Programs Administration or his or her delegate.

* * * * *

PART 190—PIPELINE SAFETY PROGRAMS AND RULEMAKING PROCEDURES

1. The authority citation for part 190 continues to read as follows:

Authority: 33 U.S.C. 1321; 49 U.S.C. 5101-5127, 60101 et seq.; Sec. 212-213, Pub. L. 104-121, 110 Stat. 857; and 49 CFR 1.53.

2. In section 190.3, add the definition of Administrator in alphabetical order, to read as follows:

§ 190.3 Definitions.

* * * * *

Administrator means the Administrator, Research and Special Programs Administration or his or her delegate.

* * * * *

PART 191—TRANSPORTATION OF NATURAL AND OTHER GAS BY PIPELINE; ANNUAL REPORTS, INCIDENT REPORTS, AND SAFETY RELATED CONDITION REPORTS

1. The authority citation for part 191 continues to read as follows:

Authority: 49 U.S.C. 5121, 60102, 60103, 60104, 60108, 60117, 60118, and 60124 and 49 CFR 1.53.

2. In section 191.3, revise the definition of Administrator to read as follows:

§ 191.3 Definitions.

* * * * *

Administrator means the Administrator, Research and Special Programs Administration or his or her delegate.

* * * * *

PART 192—TRANSPORTATION OF NATURAL AND OTHER GAS BY PIPELINE: MINIMUM FEDERAL SAFETY STANDARDS

1. The authority citation for part 192 continues to read as follows:

Authority: 49 U.S.C. 5103, 60102, 60104, 60108, 60109, 60110, 60113, and 60118 and 49 CFR 1.53.

2. In section 192.3, revise the definition of Administrator to read as follows:

§ 192.3 Definitions.

* * * * *

Administrator means the Administrator, Research and Special Programs Administration or his or her delegate.

* * * * *

PART 193—LIQUEFIED NATURAL GAS FACILITIES: FEDERAL SAFETY STANDARDS

1. The authority citation for part 193 continues to read as follows:

Authority: 49 U.S.C. 5103, 60102, 60103, 60104, 60108, 60109, 60110, 60113, and 60118, and 49 CFR 1.53.

2. In section 193.2007, revise the definition of Administrator to read as follows:

§ 193.2007 Definitions.

* * * * *

Administrator means the Administrator, Research and Special Programs Administration or his or her delegate.

* * * * *

PART 195—TRANSPORTATION OF HAZARDOUS LIQUIDS BY PIPELINE

1. The authority citation for part 195 continues to read as follows:

Authority: 49 U.S.C. 5103, 60102, 60104, 60108, 60109, and 60118; and 49 CFR 1.53.

2. In section 195.2, revise the definition of Administrator to read as follows:

§ 195.2 Definitions.

* * * * *

Administrator means the Administrator, Research and Special Programs Administration or his or her delegate.

* * * * *

PART 198—REGULATIONS FOR GRANTS TO AID STATE PIPELINE SAFETY PROGRAMS

1. The authority citation for part 198 continues to read as follows:

Authority: 49 U.S.C. 60105, 60106 and 60114; and 49 CFR 1.53.

2. In Section 198.3, add the definition of Administrator in alphabetical order, to read as follows:

§ 198.3 Definitions.

* * * * *

Administrator means the Administrator, Research and Special Programs Administration or his or her delegate.

* * * * *

PART 199—DRUG AND ALCOHOL TESTING

1. The authority citation for part 199 continues to read as follows:

Authority: 49 U.S.C. 5103, 60102, 60104, 60108, 60117, and 60118; and 49 CFR 1.53.

2. In section 199.3, revise the definition of Administrator to read as follows:

§ 199.3 Definitions.

* * * * *

Administrator means the Administrator, Research and Special Programs Administration or his or her delegate.

* * * * *

Ellen G. Engleman,
Administrator.

[FR Doc. 03-5922 Filed 3-11-03; 8:45 am]

BILLING CODE 4910-60-P